DEPARTMENT OF TRANSPORTATION

Federal Aviation Administration

14 CFR Part 39

[Docket No. FAA-2015-3741; Directorate Identifier 2014-SW-040-AD; Amendment 39-18507; AD 2016-09-09]

RIN 2120-AA64

Airworthiness Directives; Airbus Helicopters (Type Certificate Previously Held by Eurocopter France)

AGENCY: Federal Aviation Administration (FAA), DOT.

ACTION: Final rule.

SUMMARY: We are superseding airworthiness directive (AD) 2013-08-17 for Airbus Helicopters Model SA-365N, SA-365N1, AS-365N2, AS 365 N3, and SA-366G1 helicopters. AD 2013-08-17 required initial and recurring inspections of the 9-degree fuselage frame for a crack and repairing the frame if a crack exists. This new AD modifies the compliance times and expands the inspection area of the 9-inch frame. The actions of this AD are intended to detect a crack in the 9-degree frame to prevent loss of structural integrity and subsequent loss of control of the helicopter.

DATES: This AD is effective June 10, 2016.

The Director of the Federal Register approved the incorporation by reference of certain documents listed in this AD as of June 10, 2016.

ADDRESSES: For service information identified in this final rule, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy., Room 6N-321, Fort Worth, TX 76177. It is also available on the Internet at http://www.regulations.gov by searching for and locating Docket No. FAA-2015-3741.

Examining the AD Docket

You may examine the AD docket on the Internet at http://www.regulations.gov by searching for and locating Docket No. FAA-2015-3741; or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 10101 Hillwood Pkwy., Fort Worth, Texas 76177; telephone (817) 222-5110; email robert.grant@faa.gov.

SUPPLEMENTARY INFORMATION:

Discussion

We issued a notice of proposed rulemaking (NPRM) to amend 14 CFR part 39 to remove AD 2013-08-17, Amendment 39-17434 (78 FR 25380, May 1, 2013) and add a new AD. AD 2013-08-17 applied to Airbus Helicopters Model SA-365N, SA-365N1, AS-365N2, AS 365 N3, and SA-366G1 helicopters and required initial and recurring inspections of the inner angles and flanges of the 9-degree fuselage frame on the right-hand (RH) and left-hand (LH) sides for a crack. If a crack was found, AD 2013-08-17 required repairing the frame. AD 2013-08-17 was prompted by EASA Emergency AD No. 2010-0064-E, dated April 1, 2010, to correct an unsafe condition for the specified model helicopters. EASA, which is the Technical Agent for the Member States of the European Union, advises that of a crack found in the 9-degree frame of an AS 365 N2 helicopter that had logged a total of 10,786 flight hours. EASA states that the time required for initiation of a crack in this area varies according to the weight and balance data of the different aircraft versions.

The NPRM published in the Federal Register on December 21, 2015 (80 FR 79274). The NPRM was prompted by EASA AD No. 2014-0159, dated July 7, 2014, which supersedes EASA Emergency AD No. 2010-0064-E. EASA advises of further analysis on the strength of the 9-degree frame by Airbus Helicopters, which indicates compliance times should be modified and the inspection area expanded. Consequently, the NPRM proposed retaining the inspections of the 9-degree fuselage frame for a crack but in the expanded area and within the modified compliance times. These actions are intended to detect a crack in the 9-degree frame to prevent loss of structural integrity and subsequent loss of control of the helicopter.

Comments

We gave the public the opportunity to participate in developing this AD, but we received no comments on the NPRM (80 FR 79274, December 21, 2015).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

We do not require contacting the manufacturer for approved repair instructions. We also do not allow flight with a known crack.

Related Service Information Under 1 CFR Part 51

Airbus Helicopters has issued an Emergency Alert Service Bulletin (EASB), Revision 2, dated April 7, 2014, containing the following three numbers: No. 05.00.57 for the Model SA-365N and N1, and AS-365N2 and N3 and for military Model AS365F, Fs, Fi, and K helicopters; No. 05.39 for Model SA-366G1 and military Model SA 366-GA helicopters; and No. 05.00.25 for military Model AS565MA, MB, SA, SB, and UB helicopters.

The EASB specifies checking at regular intervals for a crack in the areas of the inner angles and flanges of the 9-degree frame on the RH and LH sides, near the splice. Revision 2 of the EASB modifies the compliance times, adds a compliance time based on take-off/landing cycles, and expands the inspection areas up to the junction with the upper part of the frame. EASA classified this service information as mandatory and issued EASA AD No. 2014-0159 to ensure the continued airworthiness of these helicopters.

This service information is reasonably available because the interested parties have access to it through their normal course of business or by the means identified in the ADDRESSES section.

Costs of Compliance

We estimate that this AD affects 40 helicopters of U.S. Registry and that labor costs average $85 a work hour. Based on these estimates, we expect the following costs:

• Inspecting the 9-degree frame requires 3 work-hours per inspection for a cost of $255 per helicopter and $10,200 for the fleet per inspection cycle.

• Repairing the 9-degree frame requires 24 work-hours for a labor cost of $2,040. Parts cost $3,350 for a total cost of $5,390 per helicopter.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-08-17, Amendment 39-17434 (78 FR 25380, May 1, 2013) and adding the following new AD:

2016-09-09 Airbus Helicopters (Previously Eurocopter France): Amendment 39-18507; Docket No. FAA-2015-3741; Directorate Identifier 2014-SW-040-AD.

(a) Applicability

This AD applies to Airbus Helicopters Model SA-365N, SA-365N1, AS-365N2, AS 365 N3, and SA-366G1 helicopters, certificated in any category.

(b) Unsafe Condition

This AD defines the unsafe condition as a crack in the 9-degree frame, which could result in the loss of structural integrity and subsequent loss of control of the helicopter.

(c) Affected ADs

This AD supersedes AD 2013-08-17, Amendment 39-17434 (78 FR 25380, May 1, 2013).

(d) Effective Date

This AD becomes effective June 10, 2016.

(e) Compliance

You are responsible for performing each action required by this AD within the specified compliance time unless it has already been accomplished prior to that time.

(f) Required Actions

(1) Within 110 hours time-in-service (TIS) after reaching the hours or landings threshold, whichever occurs first, listed in Table 1 to Paragraph (f)(1) of this AD or within 110 hours TIS from the effective date of this AD, whichever occurs later, and thereafter at intervals not to exceed 110 hours TIS, using a 10X or higher magnifying glass and a light, inspect the 9-degree fuselage frame on the right-hand and left-hand sides for a crack in the areas depicted in Figures 1 and 2 of Airbus Helicopters Emergency Alert Service Bulletin (EASB) No. AS365 05.00.57, Revision 2, dated April 7, 2014, or EASB No. SA366 05.39, Revision 2, dated April 7, 2014, as applicable to your model helicopter. For purposes of this AD, a landing would be counted anytime the helicopter lifts off into the air and then lands again regardless of the duration of the landing and regardless of whether the engine is shut down.

Table 1 to Paragraph (f)(1)
Helicopter model | Hours TIS | Landings
SA-365N | 11,490 | 22,980
SA-365N1 | 10,490 | 20,980
AS-365N2 | 9,140 | 18,280
AS-365N3 | 8,740 | 17,480
SA-366G1 | 8,390 | 16,780

(2) If there is a crack, before further flight, repair the frame. Repairing a frame does not constitute terminating actions for the repetitive inspection requirements of this AD.

(g) Alternative Methods of Compliance (AMOCs)

(1) The Manager, Safety Management Group, FAA, may approve AMOCs for this AD. Send your proposal to: Robert Grant, Aviation Safety Engineer, Safety Management Group, FAA, 10101 Hillwood Pkwy., Fort Worth, Texas 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2014-0159, dated July 7, 2014. You may view the EASA AD on the Internet at http://www.regulations.gov in Docket No. FAA-2015-3741.

(i) Subject

Joint Aircraft Service Component (JASC) Code: 5311, Fuselage Main, Frame.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin No. 05.00.57, Revision 2, dated April 7, 2014.

(ii) Airbus Helicopters Emergency Alert Service Bulletin No. 05.39, Revision 2, dated April 7, 2014.

Note 1 to paragraph (j)(2): Airbus Helicopters Emergency Alert Service Bulletin No. 05.00.57 and Airbus Helicopters Emergency Alert Service Bulletin No. 05.39, both Revision 2, and both dated April 7, 2014, are co-published as one document along with Airbus Helicopters Emergency Alert Service Bulletin No. 05.00.25, Revision 2, dated April 7, 2014, which is not incorporated by reference in this AD.

(3) For Airbus Helicopters service information identified in this final rule, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on April 22, 2016.
Scott A. Horn,
Acting Manager, Rotorcraft Directorate, Aircraft Certification Service.

[FR Doc. 2016-10286 Filed 5-5-16; 8:45 am]

BILLING CODE 4910-13-P